DEPARTMENT OF ENERGY

Federal Energy Regulatory Commission

[Project No. 5334-019]

Charter Township of Ypsilanti, Michigan; Notice of Availability of Environmental Assessment

August 12, 2003.

In accordance with the National Environmental Policy Act of 1969 and the Federal Energy Regulatory Commission (Commission or FERC) regulations contained in the Code of Federal Regulations (CFR) (18 CFR part 380 [FERC Order No. 486, 52 FR 47897]), the Office of Energy Projects staff (staff) reviewed the application for a new major license for the Ford Lake Hydroelectric Project, located on the Huron River in Ypsilanti Township, Washtenaw County, Michigan, and prepared an environmental assessment (EA) for the project.

The EA contains staff's analysis of the potential environmental effects of the project and concludes that licensing the project, with staff's recommended measures, would not constitute a major Federal action significantly affecting the quality of the human environment.

A copy of the EA is available for review at the Commission or may be viewed on the Commission's Web site at http://www.ferc.gov , using the eLibrary (FERRIS) link. Enter the docket number, excluding the last three digits, to access the document. For assistance, contact FERC Online Support at FERCOnlineSupport@ferc.gov or toll-free at (866) 208-3676, or for TTY, contact (202) 502-8659.

Any comments should be filed within 30 days from the date of this notice and should be addressed to Magalie R. Salas, Secretary, Federal Energy Regulatory Commission, 888 First Street, NE., Washington, DC 20426. Please affix “Ford Lake Hydroelectric Project No. 5334,” to all comments. For further information, please contact Monte Ter Haar at (202) 502-6035 or at monte.terhaar@ferc.gov.

Comments may be filed electronically via the Internet in lieu of paper. See 18 CFR 385.2001(a)(1)(iii) and the instructions on the Commission's Web site at http://www.ferc.gov under the “e-Filing” link. The Commission strongly encourages electronic filings.

Linda Mitry,
Acting Secretary.

[FR Doc. 03-21093 Filed 8-15-03; 8:45 am]

BILLING CODE 6717-01-P